INTERNATIONAL TRADE COMMISSION

[USITC SE-19-031]

Sunshine Act Meetings

Agency Holding the Meeting: United States International Trade Commission.

TIME AND DATE: August 22, 2019 at 11:00 a.m.

PLACE: Room 101, 500 E Street SW, Washington, DC 20436, Telephone: (202) 205-2000..

STATUS: Open to the public.

MATTERS TO BE CONSIDERED: 1. Agendas for future meetings: None.

2. Minutes.

3. Ratification List.

4. Vote on Inv. Nos. 701-TA-627-629 and 731-TA-1458-1461 (Preliminary)(Utility Scale Wind Towers from Canada, Indonesia, Korea, and Vietnam). The Commission is currently scheduled to complete and file its determinations on August 23, 2019; views of the Commission are currently scheduled to be completed and filed on August 30, 2019.

5. Outstanding action jackets: None.

The Commission is holding the meeting under the Government in the Sunshine Act, 5 U.S.C. 552(b). In accordance with Commission policy, subject matter listed above, not disposed of at the scheduled meeting, may be carried over to the agenda of the following meeting.

By order of the Commission.
Issued: August 6, 2019.
William Bishop,
Supervisory Hearings and Information Officer.

[FR Doc. 2019-17133 Filed 8-6-19; 4:15 pm]

BILLING CODE 7020-02-P